DEPARTMENT OF ENERGY

Federal Energy Regulatory Commission

[Docket No. RP20-859-000]

Northern Border Pipeline Company; Notice Inviting Post-Technical Conference Comments

On August 6, 2020, Federal Energy Regulatory Commission staff convened a technical conference to discuss the above-captioned proceeding.

As announced at that conference, all interested persons are invited to file post-technical conference comments to address any issues raised in this docket. Commenters may reference previously filed material, or file their own presentations from the technical conference, but are encouraged to avoid repetition or replication of previously filed material. In addition, the technical conference was transcribed. Transcripts are available from Ace Reporting Company and may be purchased online at www.acefederal.com, or by phone at (202) 347-3700. Initial comments must be submitted on or before August 27, 2020; reply comments must be submitted on or before September 17, 2020.

Comments should be filed electronically via the internet. See 18 CFR 385.2001(a)(1)(iii) and the instructions on the Commission's website http://www.ferc.gov/docs-filing/efiling.asp. For assistance, please contact FERC Online Support at FERCOnlineSupport@ferc.gov or toll free at 1-866-208-3676, or for TTY, (202) 502-8659.

For more information about this Notice, please contact: John Martinic, (202) 502-8630, John.Martinic@ferc.gov.

Dated: August 20, 2020.
Nathaniel J. Davis, Sr.,
Deputy Secretary.

[FR Doc. 2020-18728 Filed 8-25-20; 8:45 am]

BILLING CODE 6717-01-P